DEPARTMENT OF ENERGY

Federal Energy Regulatory Commission

Combined Notice of Filings

Take notice that the Commission has received the following Natural Gas Pipeline Rate and Refund Report filings:

Docket Numbers: CP20-458-000.

Applicants: Tennessee Gas Pipeline Company, L.L.C.

Description: Abbreviated Application for Authorization to Abandon Exchange and Transportation Service of Tennessee Gas Pipeline Company, L.L.C.

Filed Date: 5/20/20.

Accession Number: 20200520-5039.

Comments Due: 5 p.m. ET 6/10/20.

Docket Numbers: RP20-649-000.

Applicants: Trailblazer Pipeline Company LLC.

Description: Report Filing: TPC 2020 Annual L&U Cash-out Refund Report.

Filed Date: 5/18/20.

Accession Number: 20200518-5126.

Comments Due: 5 p.m. ET 6/1/20.

Docket Numbers: RP20-869-001.

Applicants: Transcontinental Gas Pipe Line Company, LLC.

Description: Tariff Amendment: Supplement to Rate Schedule S-2 Tracker Filing in Docket No. RP20-869-000 to be effective 6/1/2020.

Filed Date: 5/20/20.

Accession Number: 20200520-5027.

Comments Due: 5 p.m. ET 6/1/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 27, 2020.
Nathaniel J. Davis, Sr.,
Deputy Secretary.

[FR Doc. 2020-11838 Filed 6-1-20; 8:45 am]

BILLING CODE 6717-01-P